DEPARTMENT OF THE INTERIOR

Bureau of Ocean Energy Management

[Docket No. BOEM-2018-0065]

Outer Continental Shelf, Western, Central, and Eastern Gulf of Mexico, Oil and Gas Lease Sales for Years 2019-2024

AGENCY: Bureau of Ocean Energy Management, Interior.

ACTION: Call for Information and Nominations.

SUMMARY: The Bureau of Ocean Energy Management (BOEM) is issuing a Call for Information and Nominations (Call) covering up to ten proposed Region-wide oil and gas lease sales in the available portions of the Western, Central, and Eastern Gulf of Mexico Planning Areas (WPA, CPA, and EPA, respectively), as included in the 2019-2024 National Outer Continental Shelf (OCS) Oil and Gas Leasing Draft Proposed Program (2019-2024 National Draft Proposed Program), which BOEM announced on January 4, 2018.

DATES: All nominations and comments submitted in response to this Call must be received by BOEM no later than January 25, 2019. BOEM will consider submissions sent by mail so long as they are postmarked by the last day of the comment period.

ADDRESSES:

Public Comment Submission Procedures: All public comments should be submitted through one of the following methods:

1. Federal eRulemaking Portal: http://www.regulations.gov. In the field entitled, “Search,” enter “BOEM-2018-0065” and then click “search.” Follow the instructions to submit public comments and view supporting and related materials available for this notice;

2. U.S. Postal Service or other delivery service to the following address: Dr. S. Erin O'Reilly Vaughan, Chief, Leasing and Financial Responsibility Section, Bureau of Ocean Energy Management, Gulf of Mexico OCS Region, 1201 Elmwood Park Boulevard, Mail Stop GM235D, New Orleans, Louisiana 70123-2394. Send your comments in an envelope clearly labelled, “Comments on the Call for Information and Nominations for Proposed 2019-2024 Gulf of Mexico Region-wide Lease Sales.”

Nominations/Indications of Industry Interest Submission Procedures: To ensure security and confidentiality of proprietary information to the maximum extent possible, please send nominations/indications of interest and other proprietary information to Dr. S. Erin O'Reilly Vaughan, Chief, Leasing and Financial Responsibility Section, Bureau of Ocean Energy Management, Gulf of Mexico OCS Region, 1201 Elmwood Park Boulevard, Mail Stop GM235D, New Orleans, LA 70123-2394. Consistent with subsection 5 in the “Call For Information and Nominations” section of this Call below, you should mark all documents and every page containing such information with “Confidential—Contains Proprietary Information.” Send your nominations in an envelope clearly labeled, “Nominations for Proposed 2019-2024 Gulf of Mexico Region-wide Lease Sales.” Do not send indications of interest or other proprietary information through the Federal eRulemaking Portal.

FOR FURTHER INFORMATION CONTACT: Dr. S. Erin O'Reilly Vaughan, Chief, Leasing and Financial Responsibility Section, Bureau of Ocean Energy Management, Gulf of Mexico OCS Region, 1201 Elmwood Park Boulevard, Mail Stop GM 235D, New Orleans, Louisiana 70123-2394, telephone (504) 736-1759.

SUPPLEMENTARY INFORMATION: The purpose of this Call is to solicit comments from industry and the public on: (a) Industry nominations of acreage for possible inclusion in the proposed sales; and (b) information on the Call Area for consideration in planning for these proposed OCS oil and gas lease sales, including geological conditions, archaeological sites, potential use conflicts in the Call Area, areas of special concern and analysis, and other socioeconomic, biological and environmental information. Because the first Gulf of Mexico Region-wide lease sale in the 2019-2024 National Draft Proposed Program is proposed to occur in 2020, and given the long lead time needed to prepare for a proposed sale, BOEM must initiate the planning process before the National OCS Oil and Gas Leasing Program (2019-2024 National Program) has been finalized. This Call is not a decision to lease and does not prejudge any future Secretarial decision concerning areas to be made available for leasing under the 2019-2024 National Program.

2019-2024 Program Development: On January 4, 2018, the Department of the Interior announced the release of the 2019-2024 National Draft Proposed Program and published a Notice of Intent (NOI) to prepare a Programmatic Environmental Impact Statement (PEIS) for the 2019-2024 National Program. Information on the development of the proposed 2019-2024 National Program and PEIS is available on BOEM's website at: https://www.boem.gov/National-OCS-Program/.

Because the first Gulf of Mexico Region-wide sale in the 2019-2024 National Draft Proposed Program is tentatively proposed to occur near the beginning of the lease sale schedule, and given the long lead time needed to prepare for a proposed oil and gas lease sale, the administrative and environmental review processes for this sale must occur simultaneously and in close coordination with the development of the 2019-2024 National Program.

This Call should not be construed as a prejudgment by the Secretary concerning whether to schedule a lease sale in this area under the 2019-2024 National Program. This Call does not indicate a preliminary decision to lease in the areas described herein. BOEM will use the information and nominations received in response to this Call to identify the areas to be carried forward for analysis and potential inclusion in future oil and gas leasing. Multiple steps would be required prior to holding any lease sale, including but not limited to: inclusion of this sale in the approved 2019-2024 National Program, completion of environmental analyses and statutory requirements, and issuance of Proposed and Final Notices of Sale (NOS).

Environmental Review Process: BOEM intends to prepare a Multisale Environmental Impact Statement (EIS), in accordance with the National Environmental Policy Act (NEPA), covering the proposed lease sales included in this Call. BOEM will also prepare a Supplemental EIS, which will inform decisions for the proposed lease sales scheduled for 2020 in the Gulf of Mexico, as currently scheduled in the 2017-2022 National Program and which are also proposed in the 2019-2024 National Draft Proposed Program. The Multisale EIS and Supplemental EIS will evaluate the potential effects that oil and gas activities resulting from these lease sales could have on the human, marine, and coastal environments, and may propose measures and lease stipulations to mitigate adverse impacts for the options being analyzed. Several consultations will be conducted concurrently with the NEPA process. As appropriate, these may include consultations under the Endangered Species Act (ESA), the Magnuson-Stevens Fishery Conservation and Management Act, Section 106 of the National Historic Preservation Act (NHPA), and Executive Order 13175—“Consultation and Coordination with Tribal Governments.” The results of these consultations will assist BOEM in its leasing decisions. The Supplemental EIS may be supplemented if necessary for decisions on future Gulf of Mexico proposed Region-wide lease sales.

BOEM's Leasing Process: BOEM's regulations for planning and holding an oil and gas lease sale are found at 30 CFR 556.300-309. These regulations include the following steps:

(1) Call for Information and Nominations: See section below.

(2) Area Identification: Based on the information and nominations submitted in response to this Call, BOEM will develop a recommendation of the area proposed for further leasing consideration and environmental analysis. Upon approval by the Secretary, BOEM will announce the proposed area identified for leasing in the Federal Register, in accordance with 30 CFR 556.302(a)(3).

(3) Proposed NOS: If BOEM proceeds with consideration of leasing after completion of Area Identification and environmental analysis, it will publish a Notice of Availability of a Proposed NOS in the Federal Register and send the Proposed NOS to the Governors of affected states for comment and recommendations on the size, timing, and location of the proposed sale. The Proposed NOS describes the size, timing, and location of the proposed sale, provides additional information on the area(s) proposed for leasing, lists proposed lease terms and conditions of the sale, and provides proposed stipulations to mitigate potential adverse impacts on the environment and other uses of the area.

(4) Final NOS: If BOEM decides to proceed with leasing, it will publish a Final NOS in the Federal Register at least 30 days before the date of the lease sale. The Final NOS will describe the place, time, and method for filing bids and the place, date, and hour for opening and publicly announcing bids. It will also contain a description of the area(s) offered for lease, the lease terms and conditions of the sale, and stipulations to mitigate potential adverse impacts on the environment and other uses of the area.

Call for Information and Nominations

1. Purpose of Call

The purpose of this Call is to solicit industry nominations for areas of leasing interest and to gather comments and information from the public on the area(s) that should be included in the proposed OCS oil and gas lease sales in the Gulf of Mexico under the 2019-2024 National Draft Proposed Program. Pursuant to 30 CFR 556.301, BOEM seeks comments from industry and the public on:

(a) Industry interest in the Call Area, including nominations or indications of interest in specific blocks within the Call Area;

(b) geological conditions, including bottom hazards;

(c) archaeological sites on the seabed or near shore;

(d) potential multiple uses in the Call Area, including navigation, recreation, and fisheries;

(e) areas that should receive special concern and analysis; and

(f) other socioeconomic, biological, and environmental information.

BOEM will consider information submitted in response to this Call to:

• Inform the Area Identification process under 30 CFR 556.302;

• prioritize areas with potential for oil and gas development;

• develop potential lease terms and conditions;

• identify potential use conflicts and potential mitigation measures; and

• assist in BOEM's planning and environmental review process.

2. Description of the Call Area

The GOM Region-wide sale area of this Call includes the entire CPA, WPA, and EPA, except for those areas currently subject to the Gulf of Mexico Energy Security Act of 2006 (GOMESA, Pub. L. 109-432) moratorium.

The CPA is bound on the north by the Federal-State boundaries offshore Louisiana, Mississippi, and Alabama. The eastern boundary of the CPA begins at the offshore boundary between Alabama and Florida and proceeds southeasterly to 26.19° N latitude, thence southwesterly to 25.6° N latitude. The western boundary of the CPA begins at the offshore boundary between Texas and Louisiana and proceeds southeasterly to 28.43° N latitude, thence south-southwesterly to 27.49° N latitude, thence south-southeasterly to 25.80° N latitude. The CPA is bound on the south by the maritime boundary with Mexico as established by the Treaty between the Government of the United States of America and the Government of the United Mexican States on the Delimitation of the Continental Shelf in the Western Gulf of Mexico beyond 200 Nautical Miles, which took effect in January 2001, and by the limit of the U.S. Exclusive Economic Zone in the area east of the continental shelf boundary with Mexico. BOEM is seeking nominations and comments at this time on the entire CPA, which consists of approximately 66.45 million acres, of which approximately 50.26 million acres are currently unleased.

The WPA is bound on the west and north by the Federal-State boundary offshore Texas. The eastern boundary begins at the offshore boundary between Texas and Louisiana and proceeds southeasterly to 28.43° N latitude, thence south-southwesterly to 27.49° N latitude, thence south-southeasterly to 25.80° N latitude. The WPA is bound on the south by the maritime boundary with Mexico as established by the Treaty between the Government of the United States of America and the Government of the United Mexican States on the Delimitation of the Continental Shelf in the Western Gulf of Mexico beyond 200 nautical miles, which took effect in January 2001. BOEM is seeking nominations and comments at this time on the entire WPA, which consists of approximately 28.58 million acres, of which approximately 26.10 million acres are currently unleased.

The GOM Region-wide sale area includes a small section of the EPA that is not subject to the GOMESA moratorium, which currently runs until June 30, 2022. See https://www.boem.gov/Areas-Under-Moratoria/ for a map and description of the GOMESA Moratorium Area. The portion of the EPA not subject to Congressional moratorium is bound on the east by the Military Mission Line (86°41′ W longitude), on the south by blocks that are beyond the U.S. Exclusive Economic Zone in the area known as the northern portion of the Eastern Gap, and on the west by the CPA. BOEM is seeking nominations and comments at this time on the portion of the EPA that is not subject to the GOMESA moratorium. The portion of the EPA not subject to the moratorium consists of approximately 657,905 acres, of which approximately 606,995 acres are currently unleased.

A map depicting the Call Area is available for download on the BOEM website at: http://www.boem.gov/Multi-Sale2020. Copies of Official Protraction Diagrams (OPDs) also are available for download on the BOEM website at: https://www.boem.gov/Maps-and-GIS-Data/.

3. Instructions on the Call

Parties interested in leasing one or more whole or partial blocks within the Call Area are requested to indicate their interest in, and comment on, blocks within the boundaries of the Call Area that they wish to have included in the proposed lease sale. Respondents should explicitly outline the areas of interest along block lines and rank the areas or specific blocks in which they are interested, according to their priority, using the following indicators: 1 [high], 2 [medium], or 3 [low]. Respondents are encouraged to be as specific as possible in prioritizing blocks and supporting nominations of specific blocks with detailed information, such as relevant geologic, geophysical, and economic data. Areas where interest has been indicated, but on which respondents have not indicated priorities, will be considered low priority. Respondents may also submit a list of blocks nominated by OPD and Leasing Map designations to ensure correct interpretation of their nominations. OPDs and Leasing Maps are available on BOEM's website at https://www.boem.gov/Maps-and-GIS-Data/. See subsection 5, “Protection of Privileged or Proprietary Information,” regarding protection and release of information and how to mark and submit proprietary information.

BOEM also seeks comments from all interested parties regarding particular geological, environmental, biological, archaeological, and socioeconomic conditions; potential use conflicts, or other information about conditions that could affect the potential leasing and development of particular areas. Comments may refer to broad areas or may refer to particular OCS blocks.

4. Protection of Privileged or Proprietary Information

BOEM will protect privileged or proprietary information in accordance with the Freedom of Information Act (FOIA) and OCSLA requirements. To avoid inadvertent release of such information, you should mark all documents and every page containing such information with “Confidential—Contains Proprietary Information.” To the extent a document contains a mix of proprietary and nonproprietary information, you should clearly mark the document to indicate which portion of the document is proprietary and which is not. Exemption 4 of FOIA applies to trade secrets and commercial or financial information that you submit that is privileged or confidential. BOEM considers nominations of specific blocks to be proprietary, and therefore will not release information that identifies any particular nomination with any particular party, so as not to compromise the competitive position of any participants in the process of indicating interest.

However, please be aware that BOEM's practice is to make all comments, including the names and addresses of individuals, available for public inspection. Before including your address, phone number, email address, or other personal identifying information in your comment, please be advised that your entire comment, including your personal identifying information, may be made publicly available at any time. In order for BOEM to withhold from disclosure your personal identifying information, you must identify any information contained in the submission of your comments that, if released, would constitute a clearly unwarranted invasion of your personal privacy. You must also briefly describe any possible harmful consequences of the disclosure of information, such as embarrassment, injury or other harm. Although you can ask us in your comment to withhold from public review your personal identifying information, we cannot guarantee that we will be able to do so. BOEM will make available for public inspection, in their entirety, all comments submitted by organizations and businesses, or by individuals identifying themselves as representatives of organizations or businesses.

Authority: This Call is published pursuant to the Outer Continental Shelf Lands Act (OCSLA), as amended (43 U.S.C. 1331-1356) and the implementing regulations at 30 CFR part 556.301.

Dated: December 19, 2018.
Walter D. Cruickshank,
Acting Director, Bureau of Ocean Energy Management.

[FR Doc. 2018-27876 Filed 12-21-18; 8:45 am]

BILLING CODE 4310-MR-P